DEPARTMENT OF TRANSPORTATION

Federal Motor Carrier Safety Administration

[Docket No. FMCSA-2016-0412]

Post-Accident Reporting (PAR) Advisory Committee Meeting: Public Meeting

AGENCY: Federal Motor Carrier Safety Administration (FMCSA), DOT.

ACTION: Announcement of advisory committee public meeting.

SUMMARY: FMCSA announces a meeting of its Post-Accident Reporting (PAR) Advisory Committee on Monday, April 24, 2017, at the Commercial Vehicle Safety Alliance (CVSA) Workshop in Atlanta, GA. Under section 5306 of the FAST Act, the PAR was charged with reviewing post-accident reports and made recommendations on the data elements required by the reports and modifications that may improve their use through the addition of data elements at its meeting in December 2016. At this meeting, the PAR will provide suggestions concerning the implementation of its recommendations to the FMCSA Administrator. The meeting is open to the public for its entirety.

DATES: The meeting will be held on Monday, April 24, 2017, from 1:30-5 p.m., Eastern Time (E.T.), at the Hyatt Regency Atlanta, 265 Peachtree Street NE., Atlanta, GA 30303. Copies of the task statement and an agenda for the entire meeting will be made available in advance of the meeting at http://par.fmcsa.dot.gov.

FOR FURTHER INFORMATION CONTACT: Ms. Shannon L. Watson, Senior Policy Advisor, Federal Motor Carrier Safety Administration, U.S. Department of Transportation, 1200 New Jersey Avenue SE., Washington, DC 20590, (202) 366-5221.

Services for Individuals with Disabilities: For information on facilities or services for individuals with disabilities or to request special assistance at the meeting, contact Eran Segev at (617) 494-3174, eran.segev@dot.gov, by Wednesday, April 12.

SUPPLEMENTARY INFORMATION:

I. Background

The Department established the PAR Advisory Committee as a discretionary committee under the Federal Advisory Committee Act (FACA, 5 U.S.C. App 2) on October 13, 2016, making it effective through October 13, 2018. The PAR Committee met in December 2016 and provided advice and recommendations to the FMCSA Administrator on post-accident reporting requirements, specifically those in section 5306. During the April 24 meeting, the Committee will provide suggestions on the implementation of its recommendations, seeking standardization of definitions related to crash reporting, classification of Minimum Model Uniform Crash Criteria (MMUCC) and which should be prioritized for inclusion on police accident reporting forms, and a discussion of how to best implement the PAR's recommendations. The PAR operates in accordance with FACA.

II. Meeting Participation

Oral comments from the public will be heard throughout the meeting, at the discretion of the PAR chairman. Members of the public may submit written comments on the topics to be considered during the meeting by Wednesday, April 12, to Federal Docket Management System (FDMC) Docket Number FMCSA-2016-0412 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: March 30, 2017.
Larry W. Minor,
Associate Administrator for Policy.

[FR Doc. 2017-06809 Filed 4-5-17; 8:45 am]

BILLING CODE 4910-EX-P